DEPARTMENT OF TRANSPORTATION

Federal Aviation Administration

14 CFR Part 101

Technical Amendments Concerning Amateur Rocket Activities

AGENCY: Federal Aviation Administration (FAA), DOT.

ACTION: Final rule; technical amendment.

SUMMARY: The FAA is making several editorial changes to the amateur rocket regulations. The intent of this action is to ensure the regulations are clear and accurate.

DATES: This amendment is effective July 31, 2009.

FOR FURTHER INFORMATION CONTACT: Charles P. Brinkman, Licensing and Safety Division (AST-200), Commercial Space Transportation, Federal Aviation Administration, 800 Independence Avenue, Washington, DC 20591, telephone (202) 267-7715, e-mail Phil.Brinkman@faa.gov.

SUPPLEMENTARY INFORMATION:

Background

On Monday, July 6, 2009 (74 FR 31842), the FAA published a correction document to the final rule “Requirements for Amateur Rocket Activities”. The final rule published December 4, 2008 (73 FR 73768). During the review process, we determined that additional minor amendments are needed in part 101 that could not be addressed in a correction document.

The 2008 final rule added §§ 101.25 and 101.26 relating to Class 2 and Class 3 Rockets, respectively. However, to avoid redundancy, the FAA is now moving the requirements of § 101.26 into § 101.25, and revising the section title to reflect the change. Combining the two sections provides the reader easy access to all information relating to both Class 2 and Class 3 Rockets operating limitations.

Additionally, the words “unmanned rockets” are changed to “amateur rockets” in the titles of part 101 and subpart C and in §§ 101.1(a)(3), 101.5, and 101.7 for accuracy and clarity.

Technical Amendment

This technical amendment merely moves an existing section to clarify regulations and revises the part, subpart, and section headings for clarity. There are no other changes to the existing regulatory text.

Justification for Immediate Adoption

Because this action moves an existing section to an existing subpart, the FAA finds that notice and public comment under 5 U.S.C. 553(d) is unnecessary. For the same reason, the FAA finds good cause exists under 5 U.S.C. 553(d) for making this rule effective upon publication.

List of Subjects in 14 CFR Part 101

Aircraft, Aviation safety.

The Amendment

In consideration of the foregoing, the FAA amends 14 CFR part 101 as follows:

PART 101—MOORED BALLOONS, KITES, AMATEUR ROCKETS AND UNMANNED FREE BALLOONS

1. The authority citation for part 101 continues to read as follows:

Authority: 49 U.S.C. 106(g), 40103, 40113-40114, 45302, 44502, 44514, 44701-44702, 44721, 46308.

2. Revise the heading of Part 101 to read as set forth above.

§ 101.1 [Amended]

3. Amend § 101.1, paragraph (a)(3) by removing the words “unmanned rocket” and adding the words “amateur rocket” in their place.

§ 101.5 [Amended]

4. Amend § 101.5 by removing the words “unmanned rocket” and adding the words “amateur rocket” in their place.

§ 101.7 [Amended]

5. Amend § 101.7, paragraphs (a) and (b) by removing the words “unmanned rocket” and adding the words “amateur rocket” in their place in both places.

Subpart C—Amateur Rockets

6. Revise the heading of subpart C to read as set forth above.

7. Revise § 101.25 to read as follows:

§ 101.25 Operating limitations for Class 2-High Power Rockets and Class 3-Advanced High Power Rockets.

When operating Class 2-High Power Rockets or Class 3-Advanced High Power Rockets, you must comply with the General Operating Limitations of § 101.23. In addition, you must not operate Class 2-High Power Rockets or Class 3-Advanced High Power Rockets—

(a) At any altitude where clouds or obscuring phenomena of more than five-tenths coverage prevails;

(b) At any altitude where the horizontal visibility is less than five miles;

(c) Into any cloud;

(d) Between sunset and sunrise without prior authorization from the FAA;

(e) Within 8 kilometers (5 statute miles) of any airport boundary without prior authorization from the FAA;

(f) In controlled airspace without prior authorization from the FAA;

(g) Unless you observe the greater of the following separation distances from any person or property that is not associated with the operations:

(1) Not less than one-quarter the maximum expected altitude;

(2) 457 meters (1,500 ft.);

(h) Unless a person at least eighteen years old is present, is charged with ensuring the safety of the operation, and has final approval authority for initiating high-power rocket flight; and

(i) Unless reasonable precautions are provided to report and control a fire caused by rocket activities.

§ 101.26 [Removed]

8. Remove § 101.26.

Issued in Washington, DC, on July 26, 2009.
Pamela Hamilton-Powell,
Director, Office of Rulemaking.

[FR Doc. E9-18278 Filed 7-30-09; 8:45 am]

BILLING CODE 4910-13-P